DEPARTMENT OF THE INTERIOR

Bureau of Ocean Energy Management, Regulation and Enforcement (BOEMRE)

Cancellation of Oil and Gas Lease Sale 219 in the Cook Inlet Planning Area on the Outer Continental Shelf (OCS)

AGENCY: Bureau of Ocean Energy Management, Regulation and Enforcement, Interior.

ACTION: Cancellation of Cook Inlet Lease Sale 219.

SUMMARY: The Department of the Interior has decided to cancel Cook Inlet Sale 219 that is scheduled to occur in the Revised Program for 2007-2012. Cancellation of Sale 219 due to lack of interest is necessary to allow sufficient time to gather new baseline data for environmental review, analysis, and identification of mitigating measures. The time will also be used to further develop and implement measures to improve the safety of oil and gas development in Federal waters.

FOR FURTHER INFORMATION CONTACT: Ms. Renee Orr, BOEMRE, Chief, Leasing Division, at (703) 787-1215 or renee.orr@boemre.gov.

Dated: January 25, 2011.
Michael R. Bromwich,
Director, Bureau of Ocean Energy Management, Regulation and Enforcement.

[FR Doc. 2011-4615 Filed 3-1-11; 8:45 am]

BILLING CODE 4310-MR-P